DEPARTMENT OF THE INTERIOR

Bureau of Land Management

[15XL LLID100000-L10200000-PH0000 241A 4500075502]

Notice of Public Meeting, Idaho Falls District Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC) will meet as indicated below.

DATES: The Idaho Falls District RAC will meet in Pocatello, Idaho, June 16 and 17, 2015, for a two-day meeting at the BLM Pocatello Field Office, 4350 Cliffs Drive, Pocatello, Idaho 83204. The first day will begin at 9:00 a.m. and adjourn at 4:30 p.m. The second day will begin at 9:00 a.m. and adjourn at 2:00 p.m. Members of the public are invited to attend. A comment period will be held on June 16 following the introductions from 1:00-1:30 p.m. All meetings are open to the public.

FOR FURTHER INFORMATION CONTACT: Sarah Wheeler, RAC Coordinator, Idaho Falls District, 1405 Hollipark Dr., Idaho Falls, ID 83401. Telephone: (208) 524-7550. Email: sawheeler@blm.gov.

SUPPLEMENTARY INFORMATION: On June 16 the meeting will begin with new member orientation at 9:00 a.m. at the BLM Pocatello Field Office. At 1:00 p.m. the full RAC will convene and elect a new chairman, vice chairman and secretary. Topics on the agenda include the Twin Lakes Canal Company Bear River Dam proposal and climate change. On June 17 the RAC will depart the Pocatello Field Office at 9:00 a.m. for Soda Springs Hills to tour several fuels projects and discuss partnerships. At 11:30, the group will head to Bear River to discuss the Twin Lakes Canal Company Dam proposal and the Federal Energy Regulatory Commission process. The meeting will adjourn at approximately 1:30 p.m.

The 15-member Council advises the Secretary of the Interior, through the Bureau of Land Management, on a variety of planning and management issues associated with public land management in the BLM Idaho Falls District, which covers eastern Idaho.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as indicated below.

Dated: May 1, 2015.
Sarah Wheeler,
Idaho Falls District RAC Coordinator.

[FR Doc. 2015-11397 Filed 5-11-15; 8:45 am]

BILLING CODE 4310-GG-P